DEPARTMENT OF THE INTERIOR

National Park Service

National Register of Historic Places; Notification of Pending Nominations and Related Actions

Nominations for the following properties being considered for listing or related actions in the National Register were received by the National Park Service before October 29, 2005. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by December 6, 2005.

John W. Roberts,
Acting Chief, National Register/National Historic Landmarks Program.

CALIFORNIA

Los Angeles County

St. Francis Dam (Site of), San Francisquito Canyon, Santa Clarita, 05001354.

FLORIDA

Manatee County

Regina Shipwreck Site, offshore of Bradenton Beach, Bradenton Beach, 05001355.

Miami-Dade County

Downtown Miami Historic District, Roughly bounded by Miami Ct, 3rd St., 3rd Ave., and 2nd St., Miami, 05001356.

ILLINOIS

Cook County

Ouilmette North Historic District, 46 blk district ext. from Chesnut Ave, Sheridan Rd., Lake Ave. and 13th St., Wilmette, 05001370.

Ogle County

Chana School, 201 N. River Rd., Oregon, 05001369.

INDIANA

Allen County

Vermilyea Inn Historic District, 13501 Redding Dr., Fort Wayne, 05001365.

Marion County

Big Run Baptist Church and Cemetery, 6510 S. Franklin Rd., Indianapolis, 05001367.

Foster Hall, 7200 N. College Ave., Indianapolis, 05001364.

Tomlinson, George Washington, House, 5140 Reed Rd., Indianapolis, 05001366.

Morgan County

Martinsville Sanitarium, 239 W. Harrison St., Martinsville, 05001368.

KANSAS

Atchison County

Burnes Rental Houses Historic District, 615, 617, and 621 N 3rd St., Atchison, 05001361.

Hausner House, 400 N. 3rd St., Atchison, 05001358.

Jansen House, 806 N. 3rd St., Atchison, 05001360.

Lanphear—Mitchell House, 417 N. 4th St., Atchison, 05001359.

MASSACHUSETTS

Hampden County

Laflin—Phelps Homestead, 20 depot St., Southwick, 05001371.

Middlesex County

North Burying Ground, Depot, Nutting Rds., Westford, 05001373.

Wright Cemetery, Groton Rd., Westford, 05001372.

Norfolk County

Foxborough Pumping Station, 25 Pumping Station Rd., Foxborough, 05001362.

Worcester County

Hastings, Stephen, House, 20 Squareshire Rd., Sterling, 05001363.

MICHIGAN

Ingham County

Capital Bank Tower, (Downtown Lansing MRA), 124 W. Allegan St., Lansing, 05001357.

MISSOURI

Cape Girardeau County

Harrison, William Henry and Lilla Luce, House, 313 Themis St., Cape Girardeau, 05001375.

Greene County

Camp Manor Apartments, (Springfield, Missouri MPS AD), 423 E. Elm St., Springfield, 05001374.

Pearl Apartments and Windsor Apartments, 728 and 722 S. Jefferson St., Springfield, 05001376.

MONTANA

Golden Valley County

Adams Hotel, 1 Main St., Lavina, 05001377.

NEW YORK

Albany County

LeGrange Farmstead, 122 Puley Ln., Slingerlands, 05001384.

Ohio Street Methodist Episcopal Church Complex, 1921 Third Ave., Watervliet, 05001393.

White, Sidney, House, 483 Travis Hill Rd., Preson Hollow, 05001394.

Cayuga County

North Street Friends Meetinghouse, (Freedom Trail, Abolitionism, and African American Life in Central New York MPS), 2960 Brick Church Rd., Ledyard, 05001386.

Seneca River Crossing Canals Historic District, Off NY 90, Montezuma and Tyre, 05001397.

Dutchess County

Taconic State Parkway, Taconic State Pkwy, fron Kensico Dam Plaza N to I-90, Gallatin, 05001398.

Erie County

Entranceway at Main Street at Roycroft Boulevard, (Suburban Development of Buffalo, New York MPS), Main St., jct. with Roycroft Blvd., Amherst, 05001378.

Entranceways at Main Street at Lamarck Drive and Smallwood Drive, (Suburban Development of Buffalo, New York MPS), Main St. at Lamarck Dr. and Smallwood Dr., Amherst, 05001379.

Livingston County

Delaware, Lackawanna & Western Railroad Station, South Park Dr., Leicester, 05001390.

Monroe County

Renfield Road Historic district, 1862-1895 Penfield Rd., Penfield, 05001381.

Niagara County

Harrington Colbblestone Farmhouse and Barn Complex, (Cobblestone Architecture of New York State MPS), 8993 Ridge Rd., Hartland, 05001396.

Orange County

Brown Farmstead, 238 Browns Rd., Walden, 05001383.

First Congregational Church of Middletown, 35 E. Main St., Middletown, 05001382.

Otsego County

Morris—Lull Farm, 133 Peet Rd., Morris, 05001389.

NEW YORK

Rockland County

Rockland Road Bridge, Rockland Rd., (bounded by Piermont and Ferdon Aves.), Village of Piermont, 05001391.

Schoharie County

Bellinger—Dutton House, 158 River St. (NY 30), Middleburgh, 05001380.

St. Lawrence County

Congregational Church, 218 Rensselaer St., Rensselaer Falls, 05001387.

Suffolk County

Middle Island Presbyterian Church, 271 Middle Country Rd., Middle Island, 05001388.

Tioga County

First Presbyterian Church, 75-77 N. Main St., Spencer, 05001392.

Ulster County

Church of the Holy Transfiguration of Christ-on-the-Mount, Mead's Mountain Rd., Woodstock, 05001385.

Ten Broeck, Benjamin, House, 1019 Flatbush Rd., Kingston, 05001395.

RHODE ISLAND

Providence County

Wayland Historic District, Roughly bounded by Arlington and Laurel Aves. Weymouth St., Blackstone Blvd., Butler Ave., Angell and S. Angell Sts., Providence, 05001399.

TEXAS

Bexar County

Floore Country Store, 14492 Old Bandera Rd., Helotes, 05001402.

Hood County

Baker—Carmichael House, 226 E. Pearl St., Granbury, 05001401.

Smith County

Cotton Belt Building, (Tyler, Texas MPS), 1517 W. Front St., Tyler, 05001405.

Martin Hall at Texas College, (Tyler, Texas MPS), 2404 N. Grand Ave., Tyler, 05001404.

St. John's AF & AM Lodge, 323 W. Front St., Tyler, 05001403.

TEXAS

Starr County

Guerra, Fred and Nell Kain, House, (Rio Grande City, Starr County, Texas MPS), 800 Blk. W Main, Rio Grande City, 05001400.

A request for REMOVAL has been for the following resources:

SOUTH CAROLINA

Anderson County

McFall House, SR 247, Anderson vicinity, 82003829.

Prevost, Nick, House, 105 N. Prevost St., Anderson, 84002020.

Berkeley County

Calais Milestones, On CR 98 and 44, Cainhoy vicinity, 73001677.

Charleston County

Savannah (nuclear ship), W of Mt. Pleasant on E side of Charleston Harbor, Mount Pleasant vicinity, 82001518.

Edgefield County

Big Stevens Creek Baptist Church, About 8 mi. NW of North Augusta on SC 230, North Augusta vicinity, 71000774.

Simkins, Paris, House, 202 Gary St., Edgefield, 84002044.

Fairfield County

Beard, James, House, (Fairfield County MRA), W of Ridgeway, Ridgeway vicinity, 84000585.

Furman Institution Academic Building, (Fairfield County MRA), SW of Winnsboro, Winnsboro vicinity, 84000600.

Greenville County

Cherrydale, 1500 Poinsett Hwy., Greenville, 76001702.

Greenwood County

Mays, Benjamin, Birthplace, 0.5 mi NW of jct. Of U.S. 179 and Scott Ferry Rd., Epworth vicinity, 98000414.

Lancaster County

Kilburnie, 204 N. White St., Lancaster, 79002385.

Lexington County

Timmerman Law Office, (Lexington County MRA), 207 E. Main St., Lexington vicinity, 83003922.

Newberry County

Oakhurst, 2723 Main St., Newberry, 79002389.

Orangeburg County

Gilmore House, S of intersection of State St. And Eutaw Rd., Holly Hill, 88001470.

Richland County

South Carolina Penitentiary, 1511 Williams St., Columbia, 95001489.

Spartanburg County

Ingleside, 1 mi. N of Campobello on U.S. 176, Campobello vicinity, 73001729.

[FR Doc. 05-22943 Filed 11-18-05; 8:45 am]

BILLING CODE 4312-51-P